BUREAU OF CONSUMER FINANCIAL PROTECTION

[Docket No. CFPB-2012-0006]

Proposed Collection; Comment Request

AGENCY: Bureau of Consumer Financial Protection.

ACTION: Notice and request for comment.

SUMMARY: The Bureau of Consumer Financial Protection (Bureau) and as part of its continuing effort to reduce paperwork and respondent burden, invites the general public and other Federal agencies to take this opportunity to comment on a proposed information collection, as required by the Paperwork Reduction Act of 1995. The Bureau is soliciting comments on a request for background information and financial disclosure from nominees to serve on Advisory Boards, Groups, or Committees that the Bureau may establish, including the Consumer Advisory Board mandated by the Consumer Financial Protection Act.

DATES: Written comments must be received on or before April 24, 2012 to be assured of consideration.

ADDRESSES: You may submit comments, identified by agency name and Docket No. CFPB-2012-0006, by any of the following methods:

• Electronic: http://www.regulations.gov. Follow the instructions for submitting comments.

• Mail or Hand Delivery/Courier: Chris Willey, Chief Information Officer, Consumer Financial Protection Bureau, 1500 Pennsylvania Avenue NW. (Attn: 1801 L Street), Washington, DC 20220.

• All submissions must include the agency name and docket number for this notice. In general all comments received will be posted without change to http://www.regulations.gov. In addition, comments will be available for public inspection and copying at 1700 G Street NW., Washington, DC 20006, on official business days between the hours of 10 a.m. and 5 p.m. Eastern Time. You can make an appointment to inspect comments by telephoning (202) 435-7275. All comments, including attachments and other supporting materials, will become part of the public record and subject to public disclosure. You should submit only information that you wish to make available publicly. In view of possible delays in mail delivery, please also notify Chris Willey by email Chris.Willey@cfpb.gov, or telephone 202-435-7741.

FOR FURTHER INFORMATION CONTACT: Requests for additional information should be directed to Kimberly Miller, Management Analyst, Consumer Financial Protection Bureau; (202) 435-7451.

SUPPLEMENTARY INFORMATION: The Dodd-Frank Wall Street Reform and Consumer Protection Act (Dodd-Frank Act), Public Law No. 111-203, Title X, Section 1014 (12 U.S.C. 5494) requires the CFPB to establish a Consumer Advisory Board (CAB) to advise and consult with the Bureau in the exercise of its functions under the Federal consumer financial laws, and to provide information on emerging practices in the consumer financial products or services industry, including regional trends, concerns, and other relevant information. In addition, the CFPB anticipates that it may establish additional advisory boards, groups, or committees in the future to advise and consult with the Bureau in the exercise of its functions.

This information collection will allow the CFPB to standardize the way it obtains information on the qualifications of individuals nominated to the CAB and to other CFPB advisory boards and committees that may be established by the Director of CFPB. For certain applicants who are being strongly considered for board or committee membership, CFPB will use this information to perform a background check, conduct a conflict of interest review and perform other similar due diligence activities associated with the selection of members on CFPB advisory boards and committees.

Title of Collection: Applications for Advisory Boards, Groups, and Committees.

Type of Review: New Collection.

Affected Public: Individuals.

Estimated Number of Respondents: 30.

Estimated Number of Responses per Respondent: 1.

Estimated Average Time per Respondent: 1 hour.

Estimated Total Annual Burden Hours: 30 × 1 = 30 hours.

Request for Comments: Comments submitted in response to this notice will be summarized and included in the request for OMB approval. All comments will become a matter of public record. The public and other Federal agencies are invited to submitted written comments on: (a) Whether the proposed collection of information is necessary for the proper performance of the functions of the agency, including whether the information will have practical utility; (b) the accuracy of the agency's estimates of the burden of the collection of information; (c) ways to enhance the quality, utility, and clarity of the information to be collected; and (d) ways to minimize the burden of the collection of information on respondents, including through the use of automated collection techniques or other forms of information technology.

Dated: February 21, 2012.
Chris Willey,
Chief Information Officer, Consumer Financial Protection Bureau.

[FR Doc. 2012-4337 Filed 2-23-12; 8:45 am]

BILLING CODE 3170-AM-P